DEPARTMENT OF COMMERCE

National Oceanic and Atmospheric Administration

[RTID 0648-XE775]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) April 2-3, 2025, in Charleston, SC.

DATES: The Snapper Grouper AP will meet April 2, 2025, from 9 a.m. until 5 p.m. and April 3, 2025, from 9 a.m. until 5 p.m.

ADDRESSES: Meeting address: Crowne Plaza Hotel Charleston, 4831 Tanger Outlet Blvd., N Charleston, SC 29418; phone: (843) 744-4422.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-panel-meetings/ two weeks prior to the meeting. The meeting is open to the public and available via webinar as it occurs. The webinar registration link will be available from the Council's website. Public comment will also be taken during the meeting.

The agenda for the Snapper Grouper AP meeting includes: updating the Fishery Performance Report for gag; recommending stock risk ratings for gag and black sea bass; discussion of management changes considered for black sea bass, golden tilefish, and for-hire reporting; an exercise to help design the Council's Lines of Communication stakeholder meetings; review of the Council's 2023-2027 Research and Monitoring Plan; and a presentation on research conducted in South Atlantic Spawning Special Management Zones. The AP will also receive updates on the developing or upcoming amendments to the Snapper Grouper Fishery Management Plan for the South Atlantic, provide input and recommendations on agenda items for the Council's consideration, and address other items as needed.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: March 13, 2025.
Rey Israel Marquez,
Acting Deputy Director, Office of Sustainable Fisheries, National Marine Fisheries Service.

[FR Doc. 2025-04426 Filed 3-17-25; 8:45 am]

BILLING CODE 3510-22-P